DEPARTMENT OF TRANSPORTATION

Coast Guard

33 CFR Part 117

[CGD07-02-034]

RIN 2115-AE47

Drawbridge Operation Regulations: Canaveral Barge Canal, Cape Canaveral, Brevard County, Florida

AGENCY: Coast Guard, DOT.

ACTION: Temporary final rule.

SUMMARY: The Coast Guard is temporarily modifying the operating regulations of the Christa McAuliffe, State Road (SR) 3 bridge across the Canaveral Barge Canal at Cape Canaveral, Florida. This temporary rule allows the Christa McAuliffe, SR 3 bridge to remain closed for periods of time during the week and provides a temporary schedule for other times during the week. This rule is necessary to facilitate repairs to the bridge.

DATES: This rule is effective from 6:15 a.m. on May 15, 2002 until 12:01 a.m. on September 1, 2002.

ADDRESSES: Comments and material received from the public as well as documents indicated in this preamble as being available in the docket are part of docket [CGD07-02-034] and are available for inspection or copying at Commander (obr), Seventh Coast Guard District, Room 432, 909 S.E. 1st Avenue, Miami, Florida 33131-3050, between 7:30 a.m. and 4 p.m., Monday through Friday, except Federal holidays.

FOR FURTHER INFORMATION CONTACT: Mr. Barry Dragon, Seventh Coast Guard District, Bridge Branch, telephone 305-415-6743.

SUPPLEMENTARY INFORMATION:

Regulatory Information

We did not publish a notice of proposed rulemaking (NPRM) for this regulation. Under 5 U.S.C. 553(b)(B), the Coast Guard finds that good cause exists for not publishing a NPRM. Publishing a NPRM, which would incorporate a comment period before a final rule could be issued, would be contrary to the public interest because immediate action is needed to facilitate repairs to the bridge.

For the same reason, under 5 U.S.C. 553(d)(3), the Coast Guard finds that good cause exists for making this rule effective less than 30 days after publication in the Federal Register.

Background and Purpose

The Christa McAuliffe, SR 3 bridge, mile 1.0, across the Canaveral Barge Canal, is a twin, double bascule leaf bridge, with a vertical clearance of 21.6 feet at mean high water and a horizontal clearance of 90.3 feet between fenders. The existing operating regulations for this bridge in 33 CFR 117.273(a) require the bridge to open on signal from 6 a.m. to 10 p.m. except that, from 6:15 a.m. to 7:45 a.m. and from 3:30 p.m. to 5:15 p.m. Monday through Friday, except Federal holidays, the draws need not open for the passage of vessels. From 10 p.m. to 6 a.m., everyday, the draws shall open on signal if at least three hours notice is given to the bridge tender. The draws shall open as soon as possible for the passage of public vessels of the United States, tugs with tows and vessels in distress.

The Florida Department of Transportation requested that the Christa McAuliffe, SR 3 bridge operations be temporarily changed to allow needed repairs to the structure. This rule temporarily changes the bridge's operating regulations to require the bridge to open on signal, except from 6:15 a.m. to 8:15 a.m. and from 3 p.m. to 6 p.m., Monday through Friday except Federal holidays, the draws need not open for the passage of vessels. From 8:15 a.m. to 3 p.m., Monday through Friday except Federal holidays, the draws need only open on the hour and half hour for the passage of vessels. From 10 p.m. until 6 a.m., everyday, the draws shall open on signal if at least three hours notice is given to the bridge tender. The draws shall open as soon as possible for the passage of public vessels of the United States, tugs with tows and vessels in distress.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979). The Coast Guard expects the economic impact of this proposal to be so minimal that a full Regulatory Evaluation under paragraph 10(e) of the regulatory policies and procedures of DOT is unnecessary because the regulations will only affect an area of limited marine traffic and this temporary rule still provides for scheduled openings.

Small Entities

Under the Regulatory Flexibility Act (5 U.S.C. 601-612), we considered whether this rule would have a significant economic effect upon a substantial number of small entities. The term “small entities” comprises small businesses, not-for-profit organizations that are independently owned and operated and are not dominant in their fields, and governmental jurisdictions with populations of less than 50,000. This rule may affect the following entities, some of which may be small entities: the owners or operators of vessels intending to transit the Canaveral Barge Canal under the Christa McAuliffe, SR 3 bridge between May 15, 2002 and September 1, 2002. The Coast Guard certifies under 5 U.S.C. 605(b) that this rule will not have a significant economic impact on a substantial number of small entities because the regulations will only affect an area of limited marine traffic and this rule still provides for scheduled openings.

Assistance for Small Entities

Under section 213(a) of the Small Business Regulatory Enforcement Fairness Act of 1996 (Public Law 104—121), we offer to assist small entities in understanding the rule so that they can better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The unfunded Mandates Reform Act of 1995 (2 U.S.C. 1521-1538) requires Federal agencies to assess the effects of their discretionary regulatory actions. In particular, the Act addresses actions that may result in the expenditure by a State, local or tribal government, in the aggregate, or by the private sector of $100,000,000 or more in any one year. Though this rule will not result in such an expenditure, we do discuss the effects of this rule elsewhere in the preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this rule and has concluded that under figure 2-1, paragraph 32(e) of Commandant Instruction M16475.1D, this rule is categorically excluded from further environmental documentation. A “Categorical Exclusion Determination” is available in the docket we have indicated under ADDRESSES.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); Section 117.255 also issued under authority of Pub. L. 102-587, 106 Stat. 5039.

2. From 6:15 a.m. on May 15, 2002, until 12:01 a.m. on September 1, 2002, in § 117.273, temporarily suspend paragraph (a) and add a new temporary paragraph (c) to read as follows:

§ 117.273 Canaveral Barge Canal.

* * * * *

(c) The draws of the Christa McAuliffe bridge, SR 3, mile 1.0, near Indianola shall open on signal, except from 6:15 a.m. to 8:15 a.m. and from 3 p.m. to 6 p.m., Monday through Friday except Federal holidays the draws need not open. From 8:15 a.m. to 3 p.m., Monday through Friday except Federal holidays, the draws need only open on the hour and half hour for the passage of vessels. From 10 p.m. until 6 a.m., everyday, the draws shall open on signal if at least three hours notice is given to the bridge tender. The draws shall open as soon as possible for the passage of public vessels of the United States, tugs with tows and vessels in distress.

Dated: May 9, 2002.
John E. Crowley, Jr.
Captain, U.S. Coast Guard, Acting Commander, Seventh Coast Guard District.

[FR Doc. 02-12730 Filed 5-21-02; 8:45 am]

BILLING CODE 4910-15-U